DEPARTMENT OF ENERGY

Federal Energy Regulatory Commission

Combined Notice of Filings #1

Take notice that the Commission received the following electric corporate filings:

Docket Numbers: EC22-56-000.

Applicants: Big Savage, LLC, Highland North LLC, Patton Wind Farm, LLC, Vitol PA Wind LLC, Vitol Holding B.V.

Description: Joint Application for Authorization Under Section 203 of the Federal Power Act of Big Savage, LLC, et al.

Filed Date: 4/19/22.

Accession Number: 20220419-5360.

Comment Date: 5 p.m. ET 5/10/22.

Take notice that the Commission received the following exempt wholesale generator filings:

Docket Numbers: EG22-101-000.

Applicants: EdSan 1B Group 1 Edwards, LLC.

Description: EdSan 1B Group 1 Edwards, LLC submits Notice of Self-Certification of Exempt Wholesale Generator Status.

Filed Date: 4/20/22.

Accession Number: 20220420-5219.

Comment Date: 5 p.m. ET 5/11/22.

Docket Numbers: EG22-102-000.

Applicants: EdSan 1B Group 1 Sanborn, LLC.

Description: EdSan 1B Group 1 Sanborn, LLC submits Notice of Self-Certification of Exempt Wholesale Generator Status.

Filed Date: 4/20/22.

Accession Number: 20220420-5221.

Comment Date: 5 p.m. ET 5/11/22.

Docket Numbers: EG22-103-000.

Applicants: EdSan 1B Group 2, LLC.

Description: EdSan 1B Group 2, LLC submits Notice of Self-Certification of Exempt Wholesale Generator Status.

Filed Date: 4/20/22.

Accession Number: 20220420-5227.

Comment Date: 5 p.m. ET 5/11/22.

Docket Numbers: EG22-104-000.

Applicants: EdSan 1B Group 3, LLC.

Description: Notice of Self-Certification of Exempt Wholesale Generator Status of EdSan 1B Group 3, LLC.

Filed Date: 4/20/22.

Accession Number: 20220420-5230.

Comment Date: 5 p.m. ET 5/11/22.

Take notice that the Commission received the following electric rate filings:

Docket Numbers: ER22-1663-000.

Applicants: Midcontinent Independent System Operator, Inc., American Transmission Company LLC.

Description: § 205(d) Rate Filing: Midcontinent Independent System Operator, Inc. submits tariff filing per 35.13(a)(2)(iii: 2022-04-20_SA 3809 ATC-Waterloo CFA to be effective 6/20/2022.

Filed Date: 4/20/22.

Accession Number: 20220420-5122.

Comment Date: 5 p.m. ET 5/11/22.

Docket Numbers: ER22-1664-000.

Applicants: Tri-State Generation and Transmission Association, Inc.

Description: § 205(d) Rate Filing: Second Amendment to SA 887 to be effective 4/15/2022.

Filed Date: 4/20/22.

Accession Number: 20220420-5201.

Comment Date: 5 p.m. ET 5/11/22.

Docket Numbers: ER22-1665-000.

Applicants: Tri-State Generation and Transmission Association, Inc.

Description: § 205(d) Rate Filing: Amendment to RS 838 to be effective 4/18/2022.

Filed Date: 4/20/22.

Accession Number: 20220420-5226.

Comment Date: 5 p.m. ET 5/11/22.

Take notice that the Commission received the following electric securities filings:

Docket Numbers: ES22-41-000.

Applicants: ITC Midwest LLC.

Description: Application Under Section 204 of the Federal Power Act for Authorization to Issue Securities of ITC Midwest LLC.

Filed Date: 4/19/22.

Accession Number: 20220419-5354.

Comment Date: 5 p.m. ET 5/10/22.

Docket Numbers: ES22-42-000; ES22-43-000.

Applicants: ATC Management Inc., American Transmission Company LLC.

Description: Application Under Section 204 of the Federal Power Act for Authorization to Issue Securities of American Transmission Company LLC, et al.

Filed Date: 4/19/22.

Accession Number: 20220419-5362.

Comment Date: 5 p.m. ET 5/10/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

Dated: April 20, 2022.
Debbie-Anne A. Reese,
Deputy Secretary.

[FR Doc. 2022-08862 Filed 4-25-22; 8:45 am]

BILLING CODE 6717-01-P